DEPARTMENT OF THE INTERIOR

Fish and Wildlife Service

[Docket No. FWS-HQ-IA-2020-0009; FXIA16710900000-201-FF09A30000]

Endangered Species; Marine Mammals; Issuance of Permits

AGENCY: Fish and Wildlife Service, Interior.

ACTION: Notice of issuance of permits.

SUMMARY: We, the U.S. Fish and Wildlife Service (Service), have issued permits to conduct certain activities with endangered species, marine mammals, or both. We issue these permits under the Endangered Species Act and Marine Mammal Protection Act.

ADDRESSES: Information about the applications for the permits listed in this notice is available online at www.regulations.gov. See SUPPLEMENTARY INFORMATION for details.

FOR FURTHER INFORMATION CONTACT: Monica Thomas, by phone at 703-358-2104, via email at DMAFR@fws.gov, or via the Federal Relay Service at 800-877-8339.

SUPPLEMENTARY INFORMATION: We, the U.S. Fish and Wildlife Service (Service), have issued permits to conduct certain activities with endangered and threatened species and marine mammals in response to permit applications that we received under the authority of section 10(a)(1)(A) of the Endangered Species Act of 1973 ESA; (16 U.S.C. 1531 et seq.)

After considering the information submitted with each permit application and the public comments received, we issued the requested permits subject to certain conditions set forth in each permit. For each application for an endangered species, we found that (1) the application was filed in good faith, (2) the granted permit would not operate to the disadvantage of the endangered species, and (3) the granted permit would be consistent with the purposes and policy set forth in section 2 of the ESA.

Availability of Documents

The permittees' original permit application materials, along with public comments we received during public comment periods for the applications, are available for review. To locate the application materials and received comments, go to www.regulations.gov and search for the appropriate permit number (e.g., 12345C) provided in the following table:

Permit No. | Applicant | Permit issuance date
Endangered Species:
02406D | Seneca Park Zoo | 06/03/2019
32153D | IUCN Iguana Specialist Group | 06/03/2019
70782C | Lawrence P. Costa | 06/07/2019
22215D | Omaha's Henry Doorly Zoo & Aquarium | 06/11/2019
88299C | James Madison University | 07/01/2019
25531D | Thomas Motlow | 07/03/2019
26429D | Memphis Zoological Gardens | 07/03/2019
69509B | National Marine Fisheries Service | 07/03/2019
08553D | Sedgwick County Zoo | 07/03/2019
24690D | Jacksonville Zoological Society | 07/03/2019
21270D | Elliot Jacobson | 07/08/2019
80987C | Indiana University-Purdue University Fort Wayne | 10/31/2019
06177D | City of Santa Ana | 07/08/2019
18708D | LMBI, L.P. | 07/08/2019
24559D | Jackson Zoological Society | 07/08/2019
22421D | Wild Cat Education & Conservation Fund | 07/09/2019
09835D | Elizabeth Tapanes | 07/10/2019
35586D | Texas Tech University | 07/12/2019
09932D | Fresno Chaffee Zoo | 07/11/2019
08804D | Miami-Dade Zoological Park and Gardens | 07/11/2019
60203C | Oregon Wildlife Foundation | 07/10/2019
37882D | Natural History Museum of Los Angeles County | 07/22/2019
28567D | La Coma Ranch, The Red Gate Corporation | 07/22/2019
95196C | La Coma Ranch, The Red Gate Corporation | 07/22/2019
85048C | Kyle Wildlife Limited Partnership | 07/22/2019
05660D | Big Cat Rescue Corp. | 07/08/2019
184718 | Delaware Museum of Natural History | 08/14/2019
22278D | Nicola Anthony, University of New Orleans | 08/15/2019
13035D | North Carolina Zoo | 08/20/2019
02441D | Y.O. Schreiner Ranch Operations | 8/22/2019
02439D | Y.O. Schreiner Ranch Operations | 8/22/2019
16838B | Judy May | 8/26/2019
07494D | ARDENR LP | 8/26/2019
07495D | ARDENR LP | 8/26/2019
85955C | Judy May | 8/26/2019
33103D | Richard Longoria | 8/26/2019
28795D | J-3 Ranch | 8/26/2019
23872D | J-3 Ranch | 8/26/2019
65097A | Ronald Grant | 9/30/2019
27354D | George Washington University | 9/30/2019
26609D | Wildlife Conservation Society | 9/30/2019
32147D | Brevard Zoo | 9/30/2019
48515B | Duke University Lemur Center | 9/30/2019
22280D | Zoo New England | 9/30/2019
24014C | Busch Gardens | 9/30/2019
47036C | Craig Stanford | 9/30/2019
46629D | Smithsonian National Zoological Park | 9/30/2019
12348D | Seneca Park Zoo | 10/1/2019
31011D | Wildwood Wildlife Park and Nature Center, Inc. | 10/31/2019
36412D | Kathryn Michelle Everson | 10/30/2019
677648 | University of Kansas Biodiversity Institute | 11/14/2019
95132C | Nashville Zoo at Grassmere | 12/10/2019
85560C | Micke Grove Zoo | 12/10/2019
03672A | Lake Superior Zoo | 12/10/2019
35574D | USFWS Texas Coastal Ecological Services Field Office | 12/12/2019
23556D | Duke University Lemur Center | 12/12/2019
33202D | Turtle Conservancy | 12/13/2019
707102 | Priour Brothers Ranch | 12/16/2019
13263B | John W. Seymour | 12/16/2019
28639D | Tanganyika Wildlife Park | 12/18/2019
33206D | Tanganyika Wildlife Park | 12/26/2019
26837B | Joann Holland | 2/18/2020
09881D | Tony Goldberg, University of Wisconsin—Madison | 02/04/2020
Marine Mammals:
37808A | Sea To Shore Alliance | 01/28/2020
100361 | Mote Marine Laboratory | 2/18/2020

Authorities

We issue this notice under the authority of the Endangered Species Act, as amended (16 U.S.C. 1531 et seq.), and the Marine Mammal Protection Act as amended (16 U.S.C. 1361 et seq.) and their implementing regulations.

Monica Thomas,
Management Analyst, Branch of Permits, Division of Management Authority.

[FR Doc. 2020-05345 Filed 3-13-20; 8:45 am]

BILLING CODE 4333-15-P